OFFICE OF THE UNITED STATES TRADE REPRESENTATIVE

Generalized System of Preferences (GSP): Notice Regarding the Review of Country Practice Petitions for the 2008 Annual Review

AGENCY: Office of the United States Trade Representative.

ACTION: Notice and request for comments.

SUMMARY: The Office of the United States Trade Representative (USTR) accepted petitions in the context of earlier GSP Annual Reviews, which are continuing to be evaluated in the 2008 GSP Annual Review, to modify the GSP status of certain GSP beneficiary developing countries because of country practices. This notice sets forth the schedule for comment and public hearings on these petitions, for requesting participation in the hearings, and for submitting pre-hearing and post-hearing briefs and comments. This notice also announces the continued evaluation for acceptance of certain country practice petitions submitted in the 2008 Annual Review. The list of country practice petitions currently under review as well as those petitions submitted in the 2008 GSP Annual Review, is available at: http://www.ustr.gov/Trade_Development/Preference_Programs/GSP/GSP_2008_Annual_Review/Section_Index.html.

FOR FURTHER INFORMATION CONTACT: Tameka Cooper, GSP Program, Office of the United States Trade Representative, 1724 F Street, NW., Room F-214, Washington, DC 20508. The telephone number is (202) 395-6971, the fax number is (202) 395-2961, and the e-mail address is Tameka_Cooper@ustr.eop.gov.

DATES: The GSP regulations (15 CFR Part 2007) provide the schedule of dates for conducting an annual review unless otherwise specified in a Federal Register notice. The current schedule for accepted country practice petitions follows.

April 2, 2009: Pre-hearing briefs and comments, requests to appear at the GSP Subcommittee Public Hearing, and hearing statements must be submitted by 5 p.m. EDT.

April 24, 2009: GSP Subcommittee Public Hearing on all country practice petitions accepted for the 2008 GSP Annual Review in Rooms 1 and 2, 1724 F Street, NW., Washington, DC 20508 beginning at 9 a.m. EDT.

May 8, 2009: Post-hearing briefs and comments must be submitted by 5 p.m. EDT.

SUPPLEMENTARY INFORMATION: The GSP program provides for the duty-free importation of eligible articles when imported from designated beneficiary developing countries. The GSP program is authorized by Title V of the Trade Act of 1974 (19 U.S.C. 2461, et seq.), as amended (the 1974 Act), and is implemented in accordance with Executive Order 11888 of November 24, 1975, as modified by subsequent Executive Orders and Presidential Proclamations.

Pursuant to 15 CFR 2007.0(b), the GSP Subcommittee of the Trade Policy Staff Committee (TPSC) has recommended the acceptance and continuation of the review of, and the TPSC has accepted and continued the review of, several country practice petitions: Petitions regarding worker rights in Bangladesh, Niger, the Republic of the Philippines, and Uzbekistan; and petitions regarding protection of intellectual property in Lebanon, Russia, and Uzbekistan. For additional information, see the “List of 2008 Annual Review Country Practice Petitions under Further Review” posted on the USTR Web site and available at: http://www.regulations.gov/, docket number USTR-2009-0009. Acceptance of a petition for review does not indicate any opinion with respect to the disposition on the merits of the petition. Acceptance indicates only that the petition has been found eligible for review by the TPSC and that such review will take place.

A Federal Register notice dated January 21, 2009, 74 FR 3657, indicated that the decision whether to accept the country practice petitions with respect to worker rights in Iraq and Sri Lanka that were submitted for inclusion in the 2008 Annual Review, and a country practice petition submitted regarding the Republic of the Philippines, which has since been withdrawn, was expected to be announced no later than March 15, 2009. The decision whether to accept the country practice petitions for Iraq and Sri Lanka in the GSP 2008 Annual Review has been further deferred. Once a decision is made, it will be published in a future Federal Register notice.

Notice of Public Hearing

The GSP Subcommittee of the TPSC will hold a hearing on April 24, 2009, for country practice petitions accepted for the 2008 GSP Annual Review, beginning at 9 a.m. at the Office of the U.S. Trade Representative, Rooms 1 and 2, 1724 F Street, NW., Washington, DC 20508. The hearing will be open to the public, and a transcript of the hearing will be available for public inspection or for purchase from the reporting company. No electronic media coverage will be allowed.

Submission of Requests To Testify at the Public Hearing and Hearing Statements

All interested parties wishing to testify at the hearing must submit, by 5 p.m. EDT, April 2, 2009, a (1) “Notice of Intent to Testify,” that includes the witness' or witnesses' name, address, telephone number, fax number, e-mail address, pertinent Case Number and country name; and (2) “Hearing Statement” to http://www.regulations.gov, docket number USTR-2009-0009 (following the procedures indicated in “Requirements for Submissions”). Oral testimony before the GSP Subcommittee will be limited to one, ten-minute presentation in English. If those testifying intend to submit a longer “Hearing Statement” for the record, it must accompany the “Notice of Intent to Testify” to be submitted by 5 p.m. EDT on April 2, 2009.

Opportunities for Public Comment and Inspection of Comments

In addition to holding a public hearing, the GSP Subcommittee of the TPSC invites briefs and comments in support of or in opposition to any country practice petition that has been accepted for the 2008 GSP Annual Review. Parties not wishing to appear at the public hearing but wishing to submit pre-hearing briefs or statements must do so by 5 p.m. EDT., April 2, 2009 to http://www.regulations.gov, docket number USTR-2009-0009. Post-hearing briefs or statements will be accepted if they conform with the “Requirements for Submissions” cited below and are submitted by 5 p.m EDT., May 8, 2009. All submissions should comply with 15 CFR Part 2007, except as modified below.

Requirements for Submissions

Submissions of pre-hearing and post-hearing briefs and comments, as well as “Notices of Intent to Testify” and “Hearing Statements” provided in response to this notice, with the exception of business confidential submissions, must be submitted electronically using http://www.regulations.gov, docket number USTR-2009-0009. Hand-delivered submissions will not be accepted. Submissions must be submitted in English by the applicable deadlines set forth in this notice.

For additional information on using the http://www.regulations.gov Web site or for any technical assistance relating to a submission, please consult the resources provided on the Web site by clicking on “How to Use This Site” on the left side of the home page. Each submitter will receive a submission tracking number upon completion of the submissions procedure at http://www.regulations.gov. The tracking number will be the submitter's confirmation that the submission was received into http://www.regulations.gov. The confirmation should be kept for the submitter's records. USTR is not responsible for any delays in a submission due to technical difficulties, nor is it able to provide any technical assistance for the Web site.

To make a submission using http://www.regulations.gov, enter docket number USTR-200-0009 on the home page and click “go.” The site will provide a search-results page listing all documents associated with this docket. Find a reference to this notice by selecting “Notice” under “Document Type” on the left side of the search-results page, and click on the link entitled “Send a Comment or Submission.” The http://www.regulations.gov Web site offers the option of providing comments by filling in a “General Comments” field or by attaching a document. Given the detailed nature of the information sought by the GSP Subcommittee, it is expected that most comments and submissions will be provided in an attached document. If a document is attached, (1) type the seven-digit case number, as appropriate; (2) indicate whether the attachment is “Written Comments,” “Notice of Intent to Testify,” “Pre-hearing brief,” or “Post-hearing brief,” and (3) type in “See attached” in the “General Comments” field. The total submission must not exceed 30 single-spaced standard letter-size pages in 12-point type, including attachments. Any data attachments to the submission should be included in the same file as the submission itself, and not as separate files.

Submissions must include, on the first page (if an attachment) or at the beginning of the submission, the following text (in bold and underlined): (1) 2008 GSP Annual Review; (2) the Case Number; (3) the country name; and (4) as appropriate, “Written Comments,” “Notice of Intent to Testify,” “Hearing Statement,” “Pre-hearing brief,” or “Post-hearing brief.” The case number and country name are found on the “List of 2008 Annual Review Country Practice Petitions under Further Review” on the USTR Web site and at http://www.regulations.gov.

Submissions will be placed in the docket and open to public inspection pursuant to 15 CFR 2007.6. Submissions may be viewed on the http://www.regulations.gov Web site by entering the docket number USTR-2009-0009 in the search field at http://www.regulations.gov.

Business Confidential Submissions

Persons wishing to submit business confidential information must submit that information by electronic mail to FR0807@ustr.eop.gov. Business confidential submissions will not be accepted at http://www.regulations.gov; however, public or non-confidential submissions that accompany business confidential submissions should be submitted at http://www.regulations.gov. For any document containing business confidential information submitted as a file attached to an e-mail transmission, the file name of the business confidential version should begin with the characters “BC.” The “BC” should be followed by the name of the party (government, company, union, association, etc.) that is making the submission.

Persons wishing to submit a business confidential submission must also follow each of these steps: (1) Provide a written explanation of why the information should be protected in accordance with 15 CFR 2007.7(b), which must be submitted along with the business confidential version of the submission; (2) clearly mark the business confidential submission “BUSINESS CONFIDENTIAL” at the top and bottom of each page of the submission; (3) indicate using brackets what information in the document is confidential; and (4) submit a non-confidential version of the submission, marked “Public” at the top and bottom of each page, that also indicates, using asterisks, where business confidential information was redacted or deleted from the applicable sentences to http://www.regulations.gov. Business confidential submissions that are submitted without the required markings or are not accompanied by a properly marked non-confidential version, as set forth above, might not be accepted or may be considered public documents. The non-confidential summary will be placed in the docket and open to public inspection.

Public versions of all documents relating to this review will be made available for public viewing at http://www.regulations.gov upon completion of processing and no later than approximately two weeks after the relevant due date.

Marideth Sandler,
Executive Director, Generalized System of Preferences (GSP) Program, Office of the U.S. Trade Representative.

[FR Doc. E9-5541 Filed 3-13-09; 8:45 am]

BILLING CODE 3190-W9-P